SMALL BUSINESS ADMINISTRATION

[LFE Growth Fund III, L.P.—License No. 05/05-0320; LFE Growth Fund IV, L.P.—License No. 04/04-0359]

Notice Seeking Exemption Under Section 312 of the Small Business Investment Act, Conflicts of Interest

Notice is hereby given that LFE Growth Fund III, L.P. and LFE Growth Fund IV, L.P., 319 Barry Avenue South, Suite 215, Wayzata, MN 55391, both Federal Licensees under the Small Business Investment Act of 1958, as amended (“the Act”), in connection with the financing of a small concern have sought an exemption under Section 312 of the Act and 13 CFR 107.730, Financings which Constitute Conflicts of Interest, of the Code of Federal Regulations. LFE Growth Fund III, L.P. and LFE Growth Fund IV, L.P. propose to provide equity security financing to Peace Coffee LLC (the “Company”).

The proposed transaction is brought within the purview of 13 CFR 107.730(a) of the Code of Federal Regulations because LFE Growth Fund III, L.P. and LFE Growth Fund IV, L.P., Associates by virtue of Common Control as defined in 13 CFR 107.50, each hold a greater than 10% equity ownership in the Company. By virtue of their equity ownership in the Company, the Company is considered an Associate, as defined in 13 CFR 107.50, requiring the U.S. Small Business Administration's prior written exemption.

Notice is hereby given that any interested person may submit written comments on this transaction within fifteen days of the date of this publication to the Associate Administrator, Office of Investment and Innovation, U.S. Small Business Administration, 409 Third Street SW, Washington, DC 20416.

Bailey DeVries,
Associate Administrator, Office of Investment and Innovation, U.S. Small Business Administration.

[FR Doc. 2023-03188 Filed 2-14-23; 8:45 am]

BILLING CODE 8026-09-P